DEPARTMENT OF HEALTH AND HUMAN SERVICES

Centers for Disease Control and Prevention

Advisory Council for the Elimination of Tuberculosis (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public and limited to 1,000 audio and web conference lines. Time will be available for public comment.

DATES: The meeting will be held on December 14, 2021, from 10:00 a.m. to 3:45 p.m., EST, and December 15, 2021, from 10:00 a.m. to 12:00 p.m., EST.

The public is welcome to submit written comments in advance of the meeting. Comments should be submitted in writing by email to the contact person listed below. In the subject line, please note ATTN: Staci Morris for ACET Public Comment. The public comment should include your name, affiliation, and email address.

Comments must be received on or before December 13, 2021.

ADDRESSES: The web conference access is:

https://cdc.zoomgov.com/j/1612312595?pwd=WnhzbDdEZGJIQXc1UkhoN2sxU05IUT09.

Passcode: H&0uhKFm.

Webinar ID: 161 231 2595.

The teleconference access is noted as follows:

Telephone number: 1-669-254-5252; and the passcode is 49252654.

FOR FURTHER INFORMATION CONTACT: Staci Morris, Committee Management Specialist, National Center for HIV, Viral Hepatitis, STD, and TB Prevention (NCHHSTP), CDC, 1600 Clifton Road NE, Mailstop US8-6, Atlanta, Georgia 30329-4027; Telephone: (404) 718-7479; Email: nchhstppolicy@cdc.gov. (In the subject line, please note ATTN: Staci Morris for ACET Public Comment).

SUPPLEMENTARY INFORMATION:

Purpose: The Council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis.

Matters To Be Considered: The agenda will include discussions on: (1) Study 31 Regimen Guidance; (2) TB Epidemiologic Studies Consortium; (3) Latent Tuberculosis Infection (LTBI) Campaign; (4) NCHHSTP and Division of Tuberculosis Elimination Equity Activities; (5) Electronic Directly Observed Therapy (eDOT) Study; and (6) Multi-State TB Outbreak Associated with Bone Allograft Surgery. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-24321 Filed 11-5-21; 8:45 am]

BILLING CODE 4163-18-P